FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Allround Forwarding Co., Inc. (NVO & OFF), 134 West 26th Street, New York, NY 10001, Officers: Hatto Dachgruber, President (Qualifying Individual), John Wellock, Vice President, Application Type: Name Change

Aplus Worldwide Logistics, Corp. (OFF), 2129 NW. 79th Avenue, Doral, FL 33122, Officer: Alexis E. Parejo, President/Secretary/Treasurer (Qualifying Individual), Application Type: New OFF License

Away International USA, LLC (NVO & OFF), 1211 NW. 93rd Court, Miami, FL 33172, Officers: Alesandro Mestichelli, Secretary (Qualifying Individual), Fabiana Confetti, Vice President, Application Type: New NVO & OFF License

Cargo Mundo International, LLC (NVO & OFF), 1763 NW. 79th Avenue, Doral, FL 33126, Officers: Henry Herrera, Manager (Qualifying Individual), Ruth Navarro, Manager, Application Type: License Transfer

Capital Freight Management Inc. dba Agilent Forwarding Services dba KIC Group(NVO & OFF), 24 Clear Creek, Irvine, CA 92620, Officer: Derek Choi, President/Secretary/Treasurer (Qualifying Individual), Application Type: New NVO & OFF License

DIA Ventures Inc. (NVO & OFF), 6918 Beaconlight Road, Riverdale, MD 20737, Officers: Henry I. Osazuwa, President (Qualifying Individual), Jane Osazuwa, Secretary/Treasurer, Application Type: New NVO & OFF License

Echo Trans World, Inc. (NVO), 462 7th Avenue, 14th Floor, New York, NY 10018, Officer: Moshe Greenwald, President/Secretary (Qualifying Individual), Application Type: QI Change

Esko, Inc. (NVO), 19008 Herb Court, Rowland Heights, CA 91748, Officers: Lin L. Chen, Vice President (Qualifying Individual), Han W. Chang, President/Secretary/Treasurer, Application Type: New NVO License

Express Forwarding, LLC (OFF), 922 East E Street, #B, Wilmington, CA 90744, Officer: Teresa Huang, Chief Executive Manager/Member (Qualifying Individual), Application Type: New OFF License

Freeway Moving & Transportation, LLC dba Freeway Moving (OFF), 28 East Runyon Street, Newark, NJ 07114, Officers: Raquel Berger, Vice President (Qualifying Individual), Eber Palmeira, Operational Manager, Application Type: New OFF License

FreightMate NY Inc. (OFF), 146 Spencer Street, #4005, Brooklyn, NY 11205, Officer: Milka Deutsch, President/Secretary/Treasurer (Qualifying Individual), Application Type: New OFF License

Norgistics North America, Inc. (NVO & OFF), 99 Wood Avenue South, Iselin, NJ 08830, Officers: Estenio Pinzas, President (Qualifying Individual), Edward Keane, Secretary/Treasurer, Application Type: New NVO & OFF License

OGL USA, Inc. dba One Global Logistics (NVO & OFF), 755 Port America Place, #385, Grapevine, TX 76051, Officers: Seung (Jay) H. Lee, President/Secretary (Qualifying Individual), Young A. Song, Vice President/Treasurer, Application Type: New NVO & OFF License

Ramin Razi dba Acorn International (NVO & OFF), 20501 Ventura Blvd., #388, Woodland Hills, CA 91364, Officer: Ramin Razi, Sole Proprietor (Qualifying Individual), Application Type: New NVO & OFF License

Samsung SDS America, Inc. (NVO & OFF), 250 Moonachie Road, Moonachie, NJ 07047, Officers: Jong H. Kim, Secretary (Qualifying Individual), Hakmyung Rho, CEO, Application Type: New NVO & OFF License

S.O. Express Moving International, Inc. (NVO & OFF), 6 Victoria Street, Suite 101, Everett, MA 02149, Officer: Sergio S. De Oliveira, Pres/Treas/Sec/CEO/Director (Qualifying Individual), Application Type: New NVO & OFF License

Specialized Overseas Shipping, Incorporated (NVO & OFF), 6425 Tireman Street, Detroit, MI 48204, Officers: Ali Kain, President/Secretary/Treasurer (Qualifying Individual), Meriam Beydoun, Vice President, Application Type: QI Change

Dated: June 10, 2011.
Rachel E. Dickon,
Assistant Secretary.

[FR Doc. 2011-14837 Filed 6-14-11; 8:45 am]

BILLING CODE 6730-01-P